FEDERAL MINE SAFETY AND HEALTH REVIEW COMMISSION

Cancellation of Sunshine Act Meeting

July 25, 2001.

TIME AND DATE: 10:30 a.m., Thursday, July 26, 2001.

PLACE: Room 6005, 6th Floor, 1730 K Street, NW., Washington, DC.

STATUS: Open.

CHANGES IN THE MEETING: The Commission meeting to consider the act upon Georges Colliers, Inc., Docket Nos. CENT 2000-65, etc., has been canceled. No earlier announcement of the cancellation was possible.

CONTACT PERSON FOR MORE INFO: Jean Ellen (202) 653-5629/(202) 708-9300 for TDD Relay/1-800-877-8339 for toll free.

Jean H. Ellen,
Chief Docket Clerk.

[FR Doc. 01-19142 Filed 7-27-01; 11:59 am]

BILLING CODE 6735-07-M